DEPARTMENT OF COMMERCE

[I.D. 110503B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Permit Family of Forms.

Form Number(s): None.

OMB Approval Number: 0648-0205.

Type of Request: Regular submission.

Burden Hours: 9,862.

Number of Respondents: 10,592.

Average Hours Per Response: 5 minutes for a dealer permit application; 20 minutes for a vessel permit application; 4 hours to install a vessel monitoring system in the rock shrimp fishery; 2 hours to annually maintain a vessel monitoring system; .23 hours for a position report; 1 hour for an operator permit application; 2 hours for a rock shrimp vessel non-renewed endorsement request; 20 minutes for an aquacultured live rock site permit application; 45 minutes for an aquacultured live rock site evaluation report; 5 minutes for notification of the permit purchase price for a permit transfer; 20 minutes for an endorsement transfer in the Gulf red snapper fishery; 5 minutes for an endorsement (placement) in the Gulf red snapper fishery; 20 minutes for other endorsements; 5 minutes for notification of lost or stolen traps in the golden crab or Caribbean spiny lobster fishery; 5 minutes for an observer or vessel transit notification in the golden crab fishery; 15 minutes for a notification of authorization for trap removal; 5 minutes for notification of harvest activity for aquacultured live rock; and 5 minutes for a permit application for octocoral or allowable chemical vessel permit.

Needs and Uses: Participants in the Federally-regulated fishery in the Exclusive Economic Zone of the South Atlantic, Gulf of Mexico, and Caribbean are required to obtain Federal permits under the existing permit program. NOAA needs information from the applications and associated data collections to identify fishing vessels/dealers/participants, properly manage the fisheries, and generate fishery-specific data.

Affected Public: Business or other for-profit organizations; individuals or households.

Frequency: Biennially, triennially, and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number 202-395-7285, or David_Rostker@omb.eop.gov.

Dated: November 4, 2003.
Gwellnar Banks,
Management Analyst, Office of the Chief Information Officer.

[FR Doc. 03-28379 Filed 11-12-03; 8:45 am]

BILLING CODE 3510-22-S